DEPARTMENT OF AGRICULTURE

Forest Service

Notice of Resource Advisory Committee Meeting

AGENCY: Modoc Resource Advisory Committee, Alturas, California, USDA Forest Service

ACTION: Notice of meeting.

SUMMARY: Pursuant to the authorities in the Federal Advisory Committees Act (Public Law 92-463) and under the Secure Rural Schools and Community Self-Determination Act of 2000 (Public Law 106-393) the Modoc National Forest's Modoc Resource Advisory Committee will meet Saturday, May 11, 2002, 9:00 am to 3:30 pm in Alturas, California for a business meeting. The meeting is open to the public.

SUPPLEMENTARY INFORMATION: The business meeting May 11 begins at 9:00 am, at the Modoc National Forest Office, Conference Room, 800 West 12th St., Alturas. Agenda topics will include approval of 04/13/02 minutes, reports from subcommittees and review and selection of projects that will improve the maintenance of existing infrastructure, implement stewardship objectives that enhance forest ecosystems, and restore and improve health and water quality that meet the intent of Pub. L. 106-393. Time will also be set aside for public comments at the beginning of the meeting.

FOR FURTHER INFORMATION CONTACT: Dan Chisholm, Forest Supervisor and Designated Federal Officer, at (530) 233-8700; or Public Affairs Officer Nancy Gardner at (530) 233-8713.

Dan Chisholm,
Forest Supervisor.

[FR Doc. 02-8222 Filed 4-4-02; 8:45 am]

BILLING CODE 3410-11-M